DEPARTMENT OF THE INTERIOR

Minerals Management Service

Outer Continental Shelf (OCS), Alaska OCS Region

AGENCY: Minerals Management Service, Interior.

ACTION: Notice of the Availability of the Final Environmental Impact Statement (EIS) for Proposed Oil and Gas Lease Sales in Cook Inlet, Alaska.

SUMMARY: MMS announces the availability of the Final EIS prepared by MMS for proposed OCS Lease Sales 191 (2004) and 199 (2006) offshore Cook Inlet, Alaska.

FOR FURTHER INFORMATION CONTACT: Minerals Management Service, Alaska OCS Region, 949 East 36th Avenue, Anchorage, Alaska 99508-4363, Attention: Dr. James Lima, telephone: (907) 271-6684 or toll free 1-800-764-2627.

SUPPLEMENTARY INFORMATION: This EIS assesses two sales in the 2002-2007 5-Year Oil and Gas Leasing Program for the Cook Inlet OCS Planning Area. Sale 191 is scheduled for 2004 and Sale 199 for 2006. Federal Regulations (40 CFR 1502.4) suggest analyzing similar or like proposals in a single EIS. The proposal analyzed for each sale is to offer 517 whole or partial lease blocks in the Cook Inlet OCS Planning Area, covering about 2.5 million acres (about 1 million hectares). The proposed sale area is seaward of the State of Alaska submerged lands boundary, extending from 3 miles to approximately 30 miles offshore and to water depths more than 650 feet. It extends from below Kalgin Island south to approximately Shuyak Island.

EIS Availability: Persons interested in reviewing the Final EIS “OCS EIS/EA, MMS 2003-055” (Volumes I through III) can either locate it on the Internet at www.mms.gov/alaska/cproject/Cook_Inlet/Cook Inlet Sale.htm; or contact the MMS Alaska OCS Regional Office. The documents are available for public inspection between the hours of 7:45 a.m. and 4:30 p.m., Monday through Friday at: Minerals Management Service, Alaska OCS Region, Resource Center, 949 East 36th Avenue, Room 330, Anchorage, Alaska 99508-4363, telephone: (907) 271-6070 or (907) 271-6621 or toll free at 1-800-764-2627. Requests may also be sent to MMS at akwebmaster@mms.gov. You may obtain single copies of the Final EIS, the Executive Summary, or a CD/ROM version, from the same address. You may also look at copies of the Final EIS in the following libraries:

Alaska Pacific University, Academic Support Center Library, 4101 University Drive, Anchorage, Alaska;

Alaska Resources Library and Information Service (ARLIS), U.S. Department of the Interior, 3150 C Street, Suite 100, Anchorage, Alaska;

Alaska State Library, Government Publications, State Office Building, 333 Willoughby, Juneau, Alaska; Anchor Point Public Library, 73405 Milo Fitz Avenue,

Anchor Point, Alaska; Chiniak Public Library, 42650 Chiniak Highway, Chiniak,

Alaska; Fairbanks North Star Borough, Noel Wien Library, 1215 Cowles Street, Fairbanks, Alaska;

Halibut Cove Library, Halibut Cove, Alaska;

Homer Public Library, 141 W. Pioneer Avenue, Homer, Alaska;

Jessie Wakefield Memorial Library, 207 Spruce Drive, Port Lions, Alaska;

Johnson Memorial Library, 319 Lower Mill Bay Road, Kodiak, Alaska;

Juneau Public Library, 292 Marine Way, Juneau, Alaska;

Kachemak Bay Campus Library, 533 Pioneer Avenue, Homer, Alaska;

Kasilof Public Library, Mile 110 Sterling Highway, Kasilof, Alaska;

Kenai Community Library, 163 Main Street Loop, Kenai, Alaska;

Kenai Peninsula College Library, 34820 College Drive, Soldotna, Alaska;

King Cove Community School Library, King Cove, Alaska;

Kodiak College Library, 117 Benny Benson Drive, Kodiak, Alaska;

Nanwalek Elementary/High School Library, Nanwalek, Alaska;

Ninilchik Community Library, 15850 Sterling Highway, Ninilchik, Alaska;

North Slope Borough School District, Library/Media Center, Barrow, Alaska;

Northern Alaska Environmental Center Library, 218 Driveway, Fairbanks, Alaska;

Old Harbor Library, Three Saints Avenue, Old Harbor, Alaska;

Ouzinkie Tribal Media Center, 110 Third Street, Ouzinkie, Alaska;

Port Graham Elementary/High School Library, Port Graham, Alaska;

Sand Point School Library, Sand Point, Alaska;

Seldovia Public Library, 260 Seldovia Street, Seldovia, Alaska;

Soldatna Public Library, 235 Binkley Street, Soldatna, Alaska;

U.S. Army Corps of Engineers Library, U.S. Department of Defense, Elmendorf Air Force Base, Anchorage, Alaska;

U.S. Environmental Protection Agency, Region 10 Library, 1200 6th Avenue, OMP-104, Seattle, Washington;

University of Alaska Anchorage, Consortium Library, 3211 Providence Drive, Anchorage, Alaska;

University of Alaska Fairbanks, Elmer E. Rasmuson Library, Government Documents, 310 Tanana Drive, Fairbanks, Alaska;

University of Alaska Fairbanks, Geophysical Institute, Government Documents, Fairbanks,

Alaska; University of Alaska Fairbanks, Institute of Arctic Biology, 311 Irving Building, Fairbanks,

Alaska; University of Alaska, Southeast, 11120 Glacier Highway, Juneau, Alaska;

Valdez Consortium Library, 200 Fairbanks Street, Valdez, Alaska; Z. J. Loussac Library, 3600 Denali Street, Anchorage, Alaska.

Dated: September 22, 2003.
Thomas A. Readinger,
Associate Director for Offshore Minerals Management.
Approved: September 24, 2003.
Willie R. Taylor,
Director, Office of Environmental Policy and Compliance.

[FR Doc. 03-28868 Filed 11-18-03; 8:45 am]

BILLING CODE 4310-MR-P